DEPARTMENT OF THE TREASURY

Customs Service

Remote Location Filing: Extension of Deadline for Customs Brokers To Submit National Permit Numbers to Customs

AGENCY: Customs Service, Department of the Treasury.

ACTION: General notice.

SUMMARY: This notice announces a deadline extension for customs brokers participating in the remote location filing (RLF) prototype to submit national permit numbers to Customs. The original date by which customs brokers were required to submit this data to Customs Headquarters was November 6, 2001. Due to recent events that have disrupted mail service to Customs Headquarters, this date is being extended to December 6, 2001.

DATES: Customs brokers who are current participants in RLF must submit their national permit numbers to Customs on or before December 6, 2001.

ADDRESSES: Submissions of national permit numbers should be sent to Customs either via email to Lisa.k.santana@customs.treas.gov or via fax to (202) 927-1096 or, in the alternative, addressed to the Remote Location Filing Team, Office of Field Operations, U.S. Customs Service, 1300 Pennsylvania Avenue, NW., Room 5.2-B, Washington, DC 20229.

FOR FURTHER INFORMATION CONTACT: Lisa Santana, (202) 927-4243 or via email at Lisa.k.santana@customs.treas.gov.

SUPPLEMENTARY INFORMATION:

Background

RLF Authorized by the National Customs Automation Program (NCAP)

Title VI of the North American Free Trade Agreement Implementation Act, Pub. L. 103-182, 107 Stat. 2057 (December 8, 1993), contains provisions pertaining to Customs Modernization (107 Stat. 2170). Subpart B of title VI of the Act concerns the National Customs Automation Program (NCAP), an electronic system for the processing of commercial imports. Within subpart B, section 631 of the Act adds section 414 (19 U.S.C. 1414), which provides for Remote Location Filing (RLF), to the Tariff Act of 1930, as amended. RLF permits an eligible NCAP participant to elect to electronically file a formal or informal consumption entry with Customs from a remote location within the Customs territory of the United States other than the port of arrival, or from within the port of arrival with a requested designated examination site outside the port of arrival.

RLF Prototype Two

In accordance with § 101.9(b) of the Customs Regulations (19 CFR 101.9(b)), Customs has developed and tested two RLF prototypes.

RLF Prototype Two commenced on January 1, 1997. See document published in the Federal Register (61 FR 60749) on November 29, 1996. The RLF Prototype Two terms and conditions remain in effect except for those explicitly changed by a document published in the Federal Register on July 6, 2001 (66 FR 35693).

New Eligibility Criterion for Brokers Participating in RLF Prototype Two

One of the changes to RLF Prototype Two effected by the July 6, 2001, Federal Register document imposed a new eligibility criterion for participation in RLF. The eligibility criterion requires that licensed customs brokers who are current RLF participants must submit proof to Customs that they hold a national permit (i.e., submission of the broker's national permit number). Failure to timely submit such proof to Customs will result in the automatic suspension of the broker's eligibility to participate in RLF. If suspended, a broker is precluded from electronically filing new entries from a remote location. If Customs receives delinquent submission of a national permit number from a broker whose suspension is in effect, Customs, after verification of the permit number, will notify the broker of the reinstatement date of the broker's right to participate in RLF; the broker will not need to reapply to participate in RLF.

The July 6, 2001, Federal Register document required that proof of the national permit be submitted to Customs by November 6, 2001, and failure to timely submit such proof to Customs by that date was to result in the automatic suspension of the broker's eligibility to participate in RLF, effective November 7, 2001.

It is noted that individuals who are otherwise eligible to participate in RLF, who are not customs brokers, are not required to hold a national broker permit.

Extension of Deadline To Submit Proof of National Permit to Customs

Subsequent to the publication of the July 6, 2001, Federal Register document, certain events have significantly disrupted mail service to Customs Headquarters. As a result, submissions of national permit numbers to Customs may be delinquent due to circumstances beyond the control of RLF participants. Accordingly, this document announces Customs decision to extend the deadline by which national permit numbers must be submitted to Customs to December 6, 2001. Failure to timely submit national permit numbers to Customs will result in the automatic suspension of the broker's eligibility to participate in RLF, effective December 7, 2001. All other terms and conditions pertaining to delinquent submissions and, where applicable, reinstatement, remain in effect as described above.

Resubmissions via Email and fax Encouraged

Mail service to Customs Headquarters has been suspended since October 21, 2001, and, as of the date of publication of this document, it is not certain when service will resume. For this reason, Customs urges those RLF participants who previously submitted national permit numbers to Customs Headquarters via the mail, subsequent to October 1, 2001, to resubmit this data. Resubmissions should be made either via email to Lisa.k.santana@customs.treas.gov or via fax to (202) 927-1096. Similarly, those RLF participants who have not yet submitted such data are encouraged to make future submissions via email or fax to the above addresses. In the event submission via email or fax is not possible, mail submissions should be made to the Remote Location Filing Team, Office of Field Operations, U.S. Customs Service, 1300 Pennsylvania Avenue, NW., Room 5.2-B, Washington, DC 20229.

Dated: November 6, 2001.
Elizabeth G. Durant,
Acting Assistant Commissioner, Office of Field Operations.

[FR Doc. 01-28673 Filed 11-15-01; 8:45 am]

BILLING CODE 4820-02-P